DEPARTMENT OF THE TREASURY

Office of Thrift Supervision

[AC-6: OTS Nos. H-3027 and 02449]

Citizens South Banking Corporation, Gastonia, NC; Approval of Conversion Application

Notice is hereby given that on August 14, 2002, the Director, Examination Policy, Office of Thrift Supervision (“OTS”), or her designee, acting pursuant to delegated authority, approved the application of Citizens South Bank, Gastonia, North Carolina, to convert to the stock form of organization. Copies of the application are available for inspection by appointment (phone number: 202-906-5922 or e-mail: Public.Info@OTS.Treas.gov) at the Public Reading Room, 1700 G Street, NW., Washington, DC 20552, and the OTS Southeast Regional Office, 1475 Peachtree Street, NE., Atlanta, GA 30309.

Dated: August 15, 2002.
By the Office of Thrift Supervision.
Nadine Y. Washington,
Corporate Secretary.

[FR Doc. 02-21162 Filed 8-19-02; 8:45 am]

BILLING CODE 6720-01-M